DEPARTMENT OF HOMELAND SECURITY

U.S. Customs and Border Protection

Accreditation and Approval of Pan Pacific Surveyors, Inc., as a Commercial Gauger and Laboratory

AGENCY: U.S. Customs and Border Protection, Department of Homeland Security.

ACTION: Notice of accreditation and approval of Pan Pacific Surveyors, Inc., as a commercial gauger and laboratory.

SUMMARY: Notice is hereby given, pursuant to CBP regulations, that Pan Pacific Surveyors, Inc., has been approved to gauge and accredited to test petroleum and certain petroleum products for customs purposes for the next three years as May 12, 2015.

DATES: Effective dates: The accreditation and approval of Pan Pacific Surveyors, Inc., as commercial gauger and laboratory became effective on May 12, 2015. The next triennial inspection date will be scheduled for May 2018.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12 and 19 CFR 151.13, that Pan Pacific Surveyors, Inc., 444 Quay Avenue, Suite #7, Wilmington, CA 90744, has been approved to gauge and accredited to test petroleum and certain petroleum products for customs purposes, in accordance with the provisions of 19 CFR 151.12 and 19 CFR 151.13. Pan Pacific Surveyors, Inc., is approved for the following gauging procedures for petroleum and certain petroleum products set forth by the American Petroleum Institute (API):

API chapters | Title
3 | Tank gauging.
7 | Temperature Determination.
8 | Sampling.
12 | Calculations.
17 | Maritime Measurements.

Pan Pacific Surveyors, Inc., is accredited for the following laboratory analysis procedures and methods for petroleum and certain petroleum products set forth by the U.S. Customs and Border Protection Laboratory Methods (CBPL) and American Society for Testing and Materials (ASTM):

CBPL No. | ASTM | Title
27-02 | ASTM D-1298 | Standard Test Method for Density, Relative Density(Specific Gravity), or API Gravity of Crude Petroleum and Liquid Petroleum Products by Hydrometer Method.
N/A | ASTM D-4007 | Standard Test Method for Water and Sediment in Crude Oil by the Centrifuge Method (Laboratory Procedure).

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for the current CBP Approved Gaugers and Accredited Laboratories List. http://www.cbp.gov/about/labs-scientific/commercial-gaugers-and-laboratories.

Dated: February 01, 2016.
Ira S. Reese,
Executive Director, Laboratories and Scientific Services Directorate.

[FR Doc. 2016-02825 Filed 2-10-16; 8:45 am]

BILLING CODE 9111-14-P